DEPARTMENT OF LABOR

Office of the Secretary

Submission for OMB Review: Comment Request

October 10, 2008.

The Department of Labor (DOL) hereby announces the submission of the following public information collection requests (ICRs) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number) / e-mail: DOL_PRA_PUBLIC@dol.gov.

Interested parties are encouraged to send comments to the Office of Information and Regulatory Affairs, Attn: OMB Desk Officer for the Occupational Safety and Health Administration (OSHA), Office of Management and Budget, Room 10235, Washington, DC 20503, Telephone: 202-395-7316 / Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of a previously approved collection.

Title of Collection: Vinyl Chloride Standard (29 CFR 1910.1017).

OMB Control Number: 1218-0010.

Affected Public: Business or other for-profits.

Estimated Number of Respondents: 32.

Estimated Total Annual Burden Hours: 712.

Estimated Total Annual Costs Burden: $48,928.

Description: The purpose of the Department's Vinyl Chloride Standard at 29 CFR 1910.1017 and the information collection requirements contained therein is to provide protection for employees from the adverse effects associated with occupational exposure to vinyl chloride. Employers must monitor employee exposure, reduce employee exposure to within permissible exposure limits, and provide medical examinations and other information to employees exposed to vinyl chloride. For additional information, see the related 60-day preclearance notice published in the Federal Register at 73 FR 39050 on July 8, 2008. PRA documentation prepared in association with the preclearance notice is available on http://www.regulations.gov under docket number OSHA 2008-0021.

Agency: Occupational Safety and Health Administration.

Type of Review: Extension without change of a previously approved collection.

Title of Collection: Cotton Dust (29 CFR 1910.1043).

OMB Control Number: 1218-0061.

Affected Public: Business or other for-profits.

Estimated Number of Respondents: 384.

Estimated Total Annual Burden Hours: 35,742.

Estimated Total Annual Costs Burden: $3,519,494.

Description: The purpose of the Department's Cotton Dust Standard at 29 CFR 1910.1043 and the information collection requirements contained therein is to provide protection for employees from the adverse health effects associated with occupational exposure to cotton dust. Employers must monitor employee exposure, reduce employee exposure to within permissible exposure limits, provide employees with medical examinations and training, and establish and maintain employee exposure monitoring and medical records. For additional information, see the related 60-day preclearance notice published in the Federal Register at 73 FR 44774 on July 31, 2008. PRA documentation prepared in association with the preclearance notice is available on http://www.regulations.gov under docket number OSHA 2008-0015.

Agency: Occupational Safety and Health Administration.

Type of Review: Extension without change of a previously approved collection.

Title of Collection: Acrylonitrile (29 CFR 1910.1045).

OMB Control Number: 1218-0126.

Affected Public: Business or other for-profits.

Estimated Number of Respondents: 23.

Estimated Total Annual Burden Hours: 3,166.

Estimated Total Annual Costs Burden: $180,946.

Description: The Department's Acrylonitrile Standard at 29 CFR 1910.1045 requires employers to monitor employee exposure to acrylonitrile (AN), to provide medical surveillance, to train employees about the hazards of AN, and to establish and maintain accurate records of employee exposure to AN. These records will be used by employers, employees, physicians, and the Government to ensure that employees are not harmed by exposure to AN. For additional information, see the related 60-day preclearance notice published in the Federal Register at 73 FR 37987 on July 2, 2008. PRA documentation prepared in association with the preclearance notice is available on http://www.regulations.gov under docket number OSHA 2008-0014.

Agency: Occupational Safety and Health Administration.

Type of Review: Extension without change of a previously approved collection.

Title of Collection: Servicing Multi-Piece and Single Piece Rim Wheels (29 CFR 1910.177).

OMB Control Number: 1218-0219.

Affected Public: Business or other for-profits.

Estimated Number of Respondents: 8.

Estimated Total Annual Burden Hours: 1.

Estimated Total Annual Costs Burden: $0.

Description: The purpose of the Department's Standard for Servicing Multi-Piece and Single Piece Rim Wheels at 29 CFR 1910.177 and the information collection requirements contained therein is to reduce employees' risk of death or serious injury by ensuring that restraining devices used by them during the servicing of multi-piece rim wheels are in safe operating condition. For additional information, see the related 60-day preclearance notice published in the Federal Register at 73 FR 45250 on August 4, 2008. PRA documentation prepared in association with the preclearance notice is available on http://www.regulations.gov under docket number OSHA 2008-0025.

Agency: Occupational Safety and Health Administration.

Type of Review: Extension without change of a previously approved collection.

Title of Collection: Shipyard Employment Standards (29 CFR 1915.113(b)(1) and 1915.172(d)).

OMB Control Number: 1218-0220.

Affected Public: Business or other for-profits.

Estimated Number of Respondents: 639.

Estimated Total Annual Burden Hours: 3,137.

Estimated Total Annual Costs Burden: $0.

Description: The Department's Standard for shackles and hooks (29 CFR 1915.113(b)(1)) requires that all hooks for which no applicable manufacturer's recommendations are available be tested and that the employer retain a certification record. The Department's Standard on portable air receivers (29 CFR 1915.172(d)) requires that portable, unfired pressure vessels be examined quarterly and subjected to a yearly hydrostatic pressure test and that a certification record be maintained. For additional information, see the related 60-day preclearance notice published in the Federal Register at 73 FR 44775 on July 31, 2008. PRA documentation prepared in association with the preclearance notice is available on http://www.regulations.gov under docket number OSHA 2008-0024.

Darrin A. King,
Departmental Clearance Officer.

[FR Doc. E8-25217 Filed 10-22-08; 8:45 am]

BILLING CODE 4510-26-P